OFFICE OF PERSONNEL MANAGEMENT

Solicitation of Federal Civilian and Uniformed Service Personnel for Contributions To Private Voluntary Organizations

AGENCY: Office of Personnel Management (OPM).

ACTION: Notice.

SUMMARY: The Office of Personnel Management (OPM) is implementing a Combined Federal Campaign (CFC) pilot program for up to 16 Local Federal Coordinating Committees (LFCC) to allow them to enter into two-year agreements with non-profit organizations to serve as the Principal Combined Fund Organization (PCFO). These agreements would be subject to renewal after the first year, following a review of performance as defined by the CFC regulations at 5 CFR Part 950, subparts A, D through F, and I. The primary objective of the pilot program is to assess the potential impact of the multi-year agreements in advance of a possible proposal for a permanent amendment to the CFC regulations and nationwide implementation with particular attention on: (a) Potential for costs savings; (b) potential to promote competition; (c) serve as incentive for mergers; and (d) potential need for new regulatory safeguards.

DATES: The pilot program will be effective for the selection of the 2005 PCFO, which must occur no later than March 15, 2005. Selected LFCCs that choose to participate will be required to conduct a performance review and decide whether or not to renew the agreement with the PCFO for the second year no later than January 16, 2006. If the agreement is not renewed, then the participating LFCC will need to solicit a new PCFO and make a selection no later than March 15, 2006.

FOR FURTHER INFORMATION CONTACT: Mark W. Lambert, Senior Compliance Officer for the Office of CFC Operations, by telephone on (202) 606-2564, by FAX on (202) 606-0902, or by e-mail at cfc@opm.gov.

Authority: E.O. 12353 (March 23, 1982), 47 FR 12785 (March 25, 1982). 3 CFR 1982 Comp., p. 139. E.O. 12404 (February 10, 1983), 48 FR 6685 (February 15. 1983), Pub. L 100-202, and Pub. L. 102-393 (5 U.S.C. 1101 Note).

U.S. Office of Personnel Management.
Kay Coles James,
Director.

[FR Doc. 05-745 Filed 1-13-05; 8:45 am]

BILLING CODE 6325-46-P